DEPARTMENT OF COMMERCE

Economic Development Administration

[Docket No.: 080305380-8381-01]

Solicitation of Applications for the Regional Training Curriculum Implementation Program

AGENCY: Economic Development Administration (EDA), Department of Commerce.

ACTION: Notice and request for applications.

SUMMARY: In FY 2006, EDA funded the development of a practitioner-oriented curriculum to acquaint local economic development practitioners with the benefits, process, and practice of economic regionalism. Pursuant to its National Technical Assistance, Training, Research and Evaluation program, EDA previously solicited applications for a project designed to implement the regional training curriculum, but determined applications received under that solicitation were not satisfactory. Accordingly, EDA now re-solicits applications to implement the regional training curriculum developed under the FY 2006 award.

DATES: To be considered timely, a completed application, regardless of the format in which it is submitted, must be either: (1) Received by the EDA representative listed below under “Paper Submissions” no later than April 25, 2008 at 5 p.m. Eastern Daylight Time (EDT); (2) transmitted and time-stamped at www.grants.gov no later than April 25, 2008 at 5 p.m. EDT; or (3) electronically transmitted to the e-mail address of the Program Officer given below under “Electronic Submissions” no later than April 25, 2008 at 5 p.m. EDT. Any application received or transmitted, as the case may be, after 5 p.m. EDT on April 25, 2008 will be considered non-responsive and will not be considered for funding. Please see the instructions below under “Application Submission Requirements” for information regarding format options for submitting completed applications. By June 2, 2008, EDA expects to notify the applicants selected for investment assistance under this notice. The selected applicants should expect to receive funding for their projects within thirty days of EDA's notification of selection.

Applicants choosing to submit completed applications electronically in whole or in part through www.grants.gov should follow the instructions set out below under “Electronic Access” and in section IV. of the complete Federal Funding Opportunity (FFO) announcement for this request for applications.

Application Submission Requirements: Applicants are advised to carefully read the instructions contained in section IV. of the complete FFO announcement for this request for applications. For a copy of the FFO announcement, please see the Web sites listed below under “Electronic Access.”

Applications may be submitted in two formats: (i) In paper format at the addresses provided below; or (ii) electronically in accordance with the procedures provided on www.grants.gov or submitted via e-mail to the address provided below in “Electronic Submissions.” EDA will not accept facsimile transmissions of applications. The content of the application is the same for paper submissions as it is for electronic submissions. A complete application must contain all the items listed in the “Application Checklist,” which can be found in section IV.C.2. of the complete FFO announcement.

You may obtain paper application packages by contacting the designated point of contact listed below under For Further Information. Applicants applying electronically through www.grants.gov may access the application package by following the instructions provided on www.grants.gov. Additionally, the following application forms may be accessed and downloaded as follows: (i) Form ED-900A, Application for Investment Assistance, at http://www.eda.gov/InvestmentsGrants/Application.xml; (ii) Standard Forms (SF) at www.grants.gov or at http://www.eda.gov/InvestmentsGrants/Application.xml; and (iii) Department of Commerce (CD) forms at http://www.doc.gov/forms.

Paper Submissions: Full or partial paper (hardcopy) applications submitted under the NTA program may be hand-delivered or mailed to: FY 2008 Regional Training Curriculum Implementation Competition, William P. Kittredge, PhD., Program Officer, Economic Development Administration, U.S. Department of Commerce, 1401 Constitution Avenue, NW., Room 7009, Washington, DC 20230.

Applicants are advised that, due to mail security measures, EDA's receipt of mail sent via the United States Postal Service may be substantially delayed or suspended in delivery. Applicants may wish to use a guaranteed overnight delivery service.

Electronic Submissions: Applicants have two options for electronic application submissions: through www.grants.gov or via e-mail. Applicants may submit applications electronically in whole or in part in accordance with the instructions provided at www.grants.gov and in section IV.B. of the applicable FFO announcement. EDA strongly encourages that applicants not wait until the application closing date to begin the application process through www.grants.gov. Applicants also may submit full or partial applications by e-mail to William P. Kittredge, PhD., Program Officer, at wkittredge@eda.doc.gov. The preferred file format for electronic attachments (e.g., the project narrative and additional exhibits to Form ED-900A and Form ED-900A's program-specific component) is portable document format (PDF); however, EDA will accept electronic files in Microsoft Word, WordPerfect, Lotus, or Excel formats.

FOR FURTHER INFORMATION CONTACT: For additional information on the NTA Program or to obtain paper application packages for this notice, please contact William P. Kittredge, PhD., Program Officer, via e-mail at wkittredge@eda.doc.gov (preferred) or by telephone at (202) 482-5442.

For additional information regarding electronic submissions, please access the following link for assistance in navigating www.grants.gov and for a list of useful resources: http://www.grants.gov/applicants/applicant_help.jsp. If you do not find an answer to your question under Frequently Asked Questions, try consulting the Applicant's User Guide. If you still cannot find an answer to your question, contact www.grants.gov via e-mail at support@grants.gov or telephone at 1-800-518-4726. The hours of operation for www.grants.gov are Monday-Friday, 7 a.m. to 9 p.m. EDT (except for Federal holidays).

Additional information about EDA and its NTA Program may be obtained from EDA's Internet Web site at www.eda.gov. The complete FFO announcement for this request for applications is available at www.grants.gov and at www.eda.gov.

SUPPLEMENTARY INFORMATION: Program Information: Recent studies on economic development, including several EDA-funded reports, stress the importance of a regional approach to successful economic development. However, the actual implementation of economic development from the regional perspective is not robust. Therefore, in FY 2006, EDA funded the development of a practitioner-oriented curriculum to acquaint local economic development practitioners with the benefits, process, and practice of economic regionalism. On July 16, 2007, EDA published a Federal Register notice (72 FR 38812) soliciting applications for funding under its National Technical Assistance, Training, Research and Evaluation program (NTA Program) to deliver the regional training curriculum across the Nation. The deadline for receipt of applications was August 13, 2007 at 5 p.m. EDT. After completing its review of the applications submitted, EDA decided not to make an award for the project. EDA now re-solicits applications for the regional curriculum training implementation project.

Electronic Access: The complete FFO announcement for the FY 2008 Regional Training Curriculum Implementation Program competition is available at www.grants.gov and at http://www.eda.gov/InvestmentsGrants/FFON.xml. In addition, more information regarding the open source curriculum to be implemented may be found at the “Know Your Region” Internet Web site at http://knowyourregion.wcu.edu/.

Funding Availability: EDA may use funds appropriated under the FY 2008 Consolidated Appropriations Act (Pub. L. 110-161, 121 Stat. 1844 (2007)) to make awards under the NTA Program authorized by the Public Works and Economic Development Act of 1965, as amended (42 U.S.C. 3121 et seq.) (PWEDA). Approximately $1,500,000 is available from FY 2008 appropriations, and shall remain available until expended, for funding awards pursuant to the NTA Program. Based on past experience with its NTA Program, EDA anticipates the regional training curriculum implementation award made under this competitive solicitation to be between $175,000 and $300,000 for each year of the three-year project period.

In all events, the funding periods and funding amounts referenced in this notice are subject to the availability of FY 2008 funds at the time of award, as well as to Department of Commerce's and EDA's priorities at the time of award. The Department of Commerce and EDA will not be held responsible for application preparation costs if the Regional Training Curriculum Implementation Program fails to receive funding or is cancelled because of agency priorities. Publication of this notice does not obligate the Department of Commerce or EDA to award any specific grant or cooperative agreement or to obligate all or part of available funds.

Statutory Authority: The authority for the NTA Program is PWEDA. The specific authority for the Regional Training Curriculum Implementation Program is section 207 of PWEDA (42 U.S.C. 3147), which authorizes EDA to make grants for grants for training, research, and technical assistance. EDA's regulations at 13 CFR parts 300-302 and subpart A of 13 CFR part 306 set forth the general and specific regulatory requirements applicable to the NTA Program. EDA's regulations are codified at 13 CFR chapter III. The regulations and PWEDA are accessible on EDA's Internet Web site at http://www.eda.gov/InvestmentsGrants/Lawsreg.xml.

Catalog of Federal Domestic Assistance (CFDA) Number: 11.303, Economic Development—Technical Assistance.

Applicant Eligibility: Pursuant to PWEDA, eligible applicants for and recipients of EDA investment assistance include a District Organization; an Indian Tribe or a consortium of Indian Tribes; a State; a city or other political subdivision of a State, including a special purpose unit of a State or local government engaged in economic or infrastructure development activities, or a consortium of political subdivisions; an institution of higher education or a consortium of institutions of higher education; and a public or private non-profit organization or association. Although for-profit, private-sector entities generally do not qualify for investment assistance under PWEDA, under its NTA Program, EDA may make an award to a for-profit organization to carry out specific research or for other purposes set forth in 13 CFR 306.1. See also 42 U.S.C. 3147.

Project Period: EDA contemplates a three-year project period for the applicant selected for funding under this competitive solicitation, with the initial award being made for the first year of the project period. The selected applicant will not have to compete for the second and third years of funding. Funding beyond the initial year is dependent upon the availability of funds and satisfactory performance, as determined by EDA and expressed in written notice. Matching share commitment percentages, if any, must be set forth for all three years of funding.

Cost Sharing Requirement: Generally, the amount of the EDA grant may not exceed fifty percent of the total cost of the project. Projects may receive an additional amount that shall not exceed thirty percent, as determined by EDA, based on the relative needs of the region in which the project will be located. See section 204(a) of PWEDA (42 U.S.C. 3144) and 13 CFR 301.4(b)(1). The Assistant Secretary of Commerce for Economic Development has the discretion to establish a maximum EDA investment rate of up to one-hundred percent where the project (i) merits and is not otherwise feasible without an increase to the EDA investment rate; or (ii) will be of no or only incidental benefit to the recipient. See section 204(c)(3) of PWEDA (42 U.S.C. 3144) and 13 CFR 301.4(b)(4).

EDA will consider the nature of the contribution (cash or in-kind), the amount of any matching share funds, and fairly assess any in-kind contributions in evaluating the cost to the Government and feasibility of the budget (see the “Evaluation Criteria” section below). While cash contributions are preferred, in-kind contributions, fairly evaluated by EDA, may provide the non-federal share of the total project cost. See section 204(b) of PWEDA (42 U.S.C. 3144) and Section III.B. of the FFO announcement for this request for applications. In-kind contributions, which may include assumptions of debt and contributions of space, equipment, and services, are eligible to be included as part of the non-federal share of eligible project costs if they meet applicable federal cost principles and uniform administrative requirements. Funds from other federal financial assistance awards are considered matching share funds only if authorized by statute, which may be determined by EDA's reasonable interpretation of the statute. See 13 CFR 300.3. The applicant must show that the matching share is committed to the project for the entire project period, will be available as needed, and is not conditioned or encumbered in any way that precludes its use consistent with the requirements of EDA investment assistance. See 13 CFR 301.5.

Intergovernmental Review: Applications for funding under the Regional Training Curriculum Implementation Program are not subject to the state review requirements imposed by Executive Order 12372, “Intergovernmental Review of Federal Programs.”

Evaluation and Selection Procedures: To apply for an award under this request for applications, an eligible applicant must submit a completed application package to EDA before the closing date and time specified in the DATES section of this notice, and in the manner provided in section IV. of the FFO announcement. Any application received or transmitted, as the case may be, after 5 p.m. EDT on April 25, 2008 will not be considered for funding. Applications that do not meet all items required or that exceed the page limitations set forth in section IV.C. of the FFO announcement will be considered non-responsive and will not be considered by the review panel. By June 2, 2008, EDA expects to notify the applicant selected for investment assistance under this notice. Unsuccessful applicants will be notified by postal mail that their applications were not selected for funding. Applications that meet all the requirements will be evaluated by a review panel comprised of at least three EDA staff members, all of whom will be full-time federal employees. The Assistant Secretary of Commerce for Economic Development is the Selecting Official for applications received under this competitive solicitation. The review panel will submit to the Selecting Official a list of applicants recommended for funding.

Evaluation Criteria: The evaluation of applications will be accomplished through a review using the following criteria, listed in descending order of importance:

(1) Conformance with EDA's statutory and regulatory requirements, including the extent to which the proposed project satisfies the award requirements set out below and as provided in 13 CFR 306.2:

• Strengthens the capacity of local, State, or national organizations and institutions to undertake and promote effective economic development programs targeted to regions of distress;

• Benefits distressed regions; and

• Demonstrates innovative approaches to stimulate economic development in distressed regions.

(2) The extent to which the application:

• Includes workshops that leverage EDA investment assistance and the open source curriculum;

• Exhibits regional dispersal of workshops and other open source curriculum delivery methods;

• Provides realistic estimates of the size and composition (e.g., urban and regional practitioners) of the audience that the applicant expects to reach and the methods through which the applicant's estimates were determined;

• Provides a feasible and innovative plan to maximize participant contact and practitioner participation;

• Contains a plan for assessing participant satisfaction through exit surveys and other means; and

• Explains the applicant's plan to proactively address participant concerns and suggestions for curriculum improvements.

(3) The degree to which an EDA investment will have strong organizational leadership, relevant project management experience, and a significant commitment of human resources talent to ensure the project's successful execution (see 13 CFR 301.8(b)).

(4) The ability of the applicant to implement the proposed project successfully (see 13 CFR 301.8).

(5) The feasibility of the budget presented.

(6) The cost to the Federal Government.

Selection Factors: The Assistant Secretary, as the Selecting Official, expects to fund the highest ranking applications, as recommended by the review panel, submitted under this request for applications. However, if EDA does not receive satisfactory applications, the Assistant Secretary may not make any selection. Also, the Assistant Secretary may select an application out of rank order for the following reasons: (1) A determination that the selected application better meets the overall objectives of sections 2 and 207 of PWEDA (42 U.S.C. 3121 and 3147); (2) the applicant's performance under previous awards; or (3) the availability of funding.

The Department of Commerce Pre-Award Notification Requirements for Grants and Cooperative Agreements: Administrative and national policy requirements for all Department of Commerce awards are contained in the Department of Commerce Pre-Award Notification Requirements for Grants and Cooperative Agreements, published in the Federal Register on February 11, 2008 (73 FR 7696). This notice may be accessed through the Federal Register Internet Web site at http://www.gpoaccess.gov/fr/retrieve.html, making sure the radial button for the correct Federal Register volume is selected (here, 2008 Federal Register, Vol. 73), entering the Federal Register page number provided in the previous sentence (7696), and clicking the “Submit” button.

Paperwork Reduction Act: This document contains collection-of-information requirements subject to the Paperwork Reduction Act (PRA). The use of Form ED-900A (Application for Investment Assistance) has been approved by the Office of Management and Budget (OMB) under the control number 0610-0094. Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: March 10, 2008.
Benjamin Erulkar,
Deputy Assistant Secretary of Commerce for Economic Development.

[FR Doc. E8-5174 Filed 3-13-08; 8:45 am]

BILLING CODE 3510-24-P